DEPARTMENT OF HOMELAND SECURITY

Federal Emergency Management Agency

[Docket ID FEMA-2019-0002; Internal Agency Docket No. FEMA-B-1922]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Buckeye (18-09-2209P). | The Honorable Jackie A. Meck, Mayor, City of Buckeye, 530 East Monroe Avenue, Buckeye, AZ 85326. | Engineering Department, 530 East Monroe Avenue, Buckeye, AZ 85326. | https://msc.fema.gov/portal/advanceSearch. | Jul. 12, 2019 | 040039
Maricopa | Unincorporated Areas of Maricopa County (18-09-2209P). | The Honorable Bill Gates, Chairman, Board of Supervisors, Maricopa County, 301 West Jefferson Street, 10th Floor, Phoenix, AZ 85003. | Flood Control District of Maricopa County, 2801 West Durango Street, Phoenix, AZ 85009. | https://msc.fema.gov/portal/advanceSearch. | Jul. 12, 2019 | 040037
California:
Riverside | Unincorporated Areas of, Riverside County (18-09-2125P). | The Honorable Kevin Jeffries, Chairman, Board of Supervisors, Riverside County, 4080 Lemon Street, 5th Floor, Riverside, CA 92501. | Riverside County, Flood Control and Water Conservation District, 1995 Market Street, Riverside, CA 92502. | https://msc.fema.gov/portal/advanceSearch. | Jul. 12, 2019 | 060245
Santa Cruz | City of Santa Cruz (18-09-2484P). | The Honorable Martine Watkins, Mayor, City of Santa Cruz, City Hall, 809 Center Street, Room 10, Santa Cruz, CA 95060. | Planning and Community Development, Permits, Building, Zoning, 809 Center Street, Room 206, Santa Cruz, CA 95060. | https://msc.fema.gov/portal/advanceSearch. | Jul. 11, 2019 | 060355
Santa Cruz | Unincorporated Areas of, Santa Cruz County (18-09-2484P). | The Honorable Ryan Coonerty, Chairman, Board of Supervisors, Santa Cruz County, 701 Ocean Street, Room 500, Santa Cruz, CA 95060. | Santa Cruz County, Planning Department, 701 Ocean Street, 4th Floor, Santa Cruz, CA 95060. | https://msc.fema.gov/portal/advanceSearch. | Jul. 11, 2019 | 060353
Florida:
Duval | City of Jacksonville (18-04-6870P). | The Honorable Lenny Curry, Mayor, City of Jacksonville, 117 West Duval Street, Suite 400, Jacksonville, FL 32202. | City Hall, 117 West Duval Street, Jacksonville, FL 32202. | https://msc.fema.gov/portal/advanceSearch. | Jul. 16, 2019 | 120077
St. Johns | Unincorporated Areas of St. Johns County (18-04-7400P). | Mr. Paul M. Waldron, Chair, St. Johns County Board of Commissioners, 500 San Sebastian View, St. Augustine, FL 32084. | St. Johns County Administration Building, 4020 Lewis Speedway, St. Augustine, FL 32085. | https://msc.fema.gov/portal/advanceSearch. | Jul. 23, 2019 | 125147
Idaho: Blaine | Unincorporated Areas of Blaine County (18-10-1303P). | Mr. Jacob Greenberg, Chair, Blaine County Board of Commissioners, Old County Courthouse, 206 1st Avenue South, Suite 300, Hailey, ID 83333. | Blaine County Planning & Zoning, 219 1st Avenue South, Suite 208, Hailey, ID 83333. | https://msc.fema.gov/portal/advanceSearch. | Jul. 11, 2019 | 165167
Kansas:
Johnson | City of Shawnee (18-07-2109P). | The Honorable Michelle Distler, Mayor, City of Shawnee, Shawnee City Hall, 11110 Johnson Drive, Shawnee, KS 66203. | City Hall, 11110 Johnson Drive, Shawnee, KS 66203. | https://msc.fema.gov/portal/advanceSearch. | Jul. 10, 2019 | 200177
Johnson | City of Shawnee (18-07-2118P). | The Honorable Michelle Distler, Mayor, City of Shawnee, Shawnee City Hall, 11110 Johnson Drive, Shawnee, KS 66203. | City Hall, 11110 Johnson Drive, Shawnee, KS 66203. | https://msc.fema.gov/portal/advanceSearch. | Jul. 3, 2019 | 200177
Johnson | City of Shawnee (18-07-2146P). | The Honorable Michelle Distler, Mayor, City of Shawnee, Shawnee City Hall, 11110 Johnson Drive, Shawnee, KS 66203. | City Hall, 11110 Johnson Drive, Shawnee, KS 66203. | https://msc.fema.gov/portal/advanceSearch. | Jul. 17, 2019 | 200177
Nevada: Clark | Unincorporated Areas of, Clark County (18-09-2382P). | The Honorable Marilyn Kirkpatrick, Chair, Board of Commissioners, Clark County, 500 South Grand Central Parkway, 6th Floor, Las Vegas, NV 89106. | Clark County, Office of the Director of Public Works, 500 South Grand Central Parkway, 2nd Floor, Las Vegas, NV 89155. | https://msc.fema.gov/portal/advanceSearch. | Jul. 17, 2019 | 320003
South Carolina: Greenville | Unincorporated Areas of Greenville County (18-04-5790P). | The Honorable Joseph Kernell, Greenville County Administrator, 301 University Ridge Suite 2400, Greenville, SC 29601. | Greenville County Planning and Code Compliance Division, 301 University Ridge, Suite 4100, Greenville, SC 29601. | https://msc.fema.gov/portal/advanceSearch. | Jul. 16, 2019 | 450089

[FR Doc. 2019-07262 Filed 4-11-19; 8:45 am]

BILLING CODE 9110-12-P